EXECUTIVE OFFICE OF THE PRESIDENT

Office of Science and Technology Policy

National Research Strategy for the President's Roadmap To Empower Veterans and End the National Tragedy of Suicide (PREVENTS)

AGENCY: Office of Science and Technology Policy (OSTP), Executive Office of the President.

ACTION: Request for information.

SUMMARY: To advance the President's vision of a National Roadmap to Empower Veterans and End Suicide, OSTP and VA will lead development of a National Research Strategy to improve the coordination, monitoring, benchmarking, and execution of public- and private-sector research related to the factors that contribute to veteran suicide. Through this RFI, we seek input on ways to increase knowledge about factors influencing suicidal behaviors and ways to prevent suicide; inform the development of a robust and forward looking research agenda; coordinate relevant research efforts across the Nation; and measure progress on these efforts. The public input provided in response to this RFI will inform the Veteran Wellness, Empowerment, and Suicide Prevention Task Force, who will develop and implement the National Research Strategy.

DATES: Response Deadline: July 15, 2019.

FOR FURTHER INFORMATION CONTACT: Jennifer Shieh at 202-456-4444. Emails may be addressed to RFIresearchresponse@va.gov. Questions, comments or RFI submissions via email should include “RFI Response: National Research Strategy for the President's Roadmap to Empower Veterans and End the National Tragedy of Suicide (PREVENTS)” in the subject line of the message. Please designate the question(s) you are answering by providing the letter and number of the specific question(s) below prior to providing your answer(s).

SUPPLEMENTARY INFORMATION: On March 5, 2019, President Trump signed Executive Order (E.O.) 13861 mandating the development of the President's Roadmap to Empower Veterans and End the National Tragedy of Suicide (PREVENTS). The Roadmap will include a National Research Strategy to advance efforts to improve quality of life and reduce the rate of suicide among veterans by better coordinating research within and beyond the Federal government, and enhancing the integration of research across the social, behavioral, and biological determinants of wellness and brain health.

We aim to understand the full spectrum of factors influencing veteran suicide. Efforts are needed that would allow early detection of trauma in the brains of living people and improve our understanding and ability to prevent conditions or factors that contribute to suicide. We aim to incorporate public health approaches that target prevention strategies and address intervention for individuals, communities, and the broader population.

Reducing the rate of suicide in the veteran population will require an innovative, concerted approach to public health, with wide stakeholder input. The Federal government alone cannot address these challenges; therefore, we seek to involve the Nation's full research and development (R&D) ecosystem, and collaborate with state, local, territorial, and tribal governments, as well as community members, industry, non-profit organizations, and academic institutions to ensure that veterans have access to effective suicide prevention services. Our collective efforts begin with the common understanding that suicide is preventable, and that prevention requires ongoing support prior to and beyond intervention at the point of crisis. To end veteran suicide, we must develop a holistic understanding of the underlying factors that determine the overall health and well-being of our Nation's veterans.

The National Research Strategy shall include milestones and metrics designed to:

i. Improve our ability to identify individual veterans and groups of veterans at greater risk of suicide;

ii. Develop and improve individual interventions that increase overall veteran quality of life and decrease the veteran suicide rate;

iii. Develop strategies to better ensure the latest research discoveries are translated into practical applications and implemented quickly;

iv. Establish relevant data-sharing protocols across Federal agencies that align with community collaborators;

v. Draw upon technology to capture and use health data from non-clinical settings to advance behavioral and mental health research to the extent practicable;

vi. Improve coordination among research efforts, prevent unnecessarily duplicative efforts, identify barriers to or gaps in research, and facilitate opportunities for improved consolidation, integration, and alignment; and

vii. Develop public-private collaboration models to foster innovative and effective research that accelerates these efforts.

Further Instructions: All public comments are welcome and should be submitted by July 15, 2019 in order to ensure they are considered in the National Research Strategy. Responses may be submitted online at https://www.research.va.gov/PREVENTS/.

Response to this RFI is voluntary, and respondents need not reply to all questions. Each individual or institution is requested to submit only one response, and to indicate whether it is an individual or organizational response. Comments containing references, studies, research, and other empirical data that are not widely published should include copies or electronic links of the referenced materials. Comments containing profanity, vulgarity, threats, or other inappropriate language or content will not be considered.

All submissions, including attachments and other supporting materials, will become part of the public record and are subject to public disclosure. Responses to this RFI, without change, may be posted on a Federal website. Therefore, no business proprietary information, copyrighted information, or personally identifiable information should be submitted in response to this RFI. Please note that the U.S. Government will not pay for response preparation, or for the use of any information contained in the response.

Questions To Inform Development of the National Research Strategy

A. How can we improve our ability to identify individual veterans and groups of veterans at greater risk of suicide?

1. What are the most critical near-term and long-term areas for research into factors influencing veteran suicide and methods to assess an individual's risk of suicide?

2. What are the biggest gaps in capability to identify and address the social, behavioral, and biological determinants of health leading to suicidal behavior in veterans? Consider associated conditions such as mental illness, traumatic brain injury (TBI), chronic traumatic encephalopathy (CTE), posttraumatic stress disorder (PTSD), and depression, as well as social determinants of health and research in intervention and post-intervention strategies.

3. How can various disciplines (e.g., neurology, endocrinology, psychology) work together to better understand and address individual risk factors that lead to veteran suicide? How can different disciplines work together to develop individual intervention strategies?

B. How can we develop and improve individual interventions that increase overall veteran quality of life and decrease the veteran suicide rate?

4. How might we better understand the progression of veterans as they transition from military to civilian life in a way that supports identification of suicide risk factors, protective factors, and opportunities for intervention that addresses veterans at various stages of transition, before the point of crisis?

5. What are currently known effective and promising or emerging practices for suicide prevention? What factors make these practices effective? What additional research is needed to demonstrate the effectiveness of promising practices?

6. What tools, platforms, methods, or technologies are needed to advance:

• Understanding of suicide risk factors

• Assessment of individuals most likely to be at risk of suicide

• Evaluation of protective factors leading to the prevention of suicide

• Improvements in social connection and community engagement of veterans

• Identification of opportunities for intervention far before the point of crisis

7. What are barriers to the adoption of existing tools, platforms, methods, or technologies that identify suicide risk factors or provide effective interventions?

C. How can we develop strategies to better ensure the latest research discoveries are translated into practical applications and implemented quickly?

8. What types of organizations should be engaged in developing and implementing the National Research Strategy? Which existing consortia or partnerships should be involved, and why? Are there existing organizations that have been effective in identifying and mitigating veteran suicide risks? Are there programs and resources within communities that have been successful? What factors made these programs successful?

9. How can the Federal government strengthen the public health system, including mental health and crisis intervention education and training programs, to ensure an adequate, well-trained medical workforce that is well-equipped to respond to the challenge of veteran suicide?

10. What are the primary barriers to adoption of current best practices for the assessment, evaluation and implementation of public health approaches targeting suicide prevention?

11. What are effective methods to quickly transition promising practices into clinical and community practice? Where have these methods been demonstrated to work previously?

12. What are methods and models to evaluate and measure outcomes and effectiveness of interventions?

13. What are the key elements in building a robust and forward looking research agenda, in addition to translating research outcomes?

D. How best to establish relevant data-sharing protocols across Federal partners that align with community partners?

14. How can Federal data, such as that from the Federal Interagency Traumatic Brain Injury Research (FITBIR) informatics system, be best leveraged in combination with local or regional data to provide new insights into trauma or the progression of disease? Are there technological limitations that prevent use of Federal data from generating information to predict outcomes?

15. What data or types of data are required to advance research efforts? Are there existing sources of data or validated datasets related to veteran suicide, mental health, risk determination, brain injury, or other relevant areas that have been previously underutilized in Federal efforts?

E. How should we draw upon technology to capture and use health data from non-clinical settings to advance behavioral and mental health research to the extent practicable?

16. How can both clinical and non-clinical data be better used to inform research efforts, and enhance current models of predictive analytics?

17. Are social determinants or risk factors being used to target services or provide outreach? If so, how? How are the beneficiaries with social risk identified?

18. Are there especially promising strategies for improving care of patients with social risk?

19. How are costs for targeting and providing those services evaluated? What are the additional costs to services, such as case management, and to provide additional services (e.g., transportation)? What is the return on investment in improved outcomes or reduced healthcare concern?

F. How can we improve coordination among research efforts, prevent unnecessarily duplicative efforts, identify barriers to or gaps in research, and facilitate opportunities for improved consolidation, integration, and alignment?

G. How can we develop a public-private collaboration model to foster innovative and effective research that accelerates these efforts?

H. Please provide any additional information not addressed by previous questions that is crucial to the creation, implementation, and success of a National Research Strategy to improve the coordination, monitoring, benchmarking, and execution of public- and private-sector research related to the factors that contribute to service member and veteran suicide.

Thank you sincerely for contributing to efforts to end Veteran suicide.

(Authority: Executive Order 13861)

Stacy Murphy,
Operations Manager.

[FR Doc. 2019-13287 Filed 6-20-19; 8:45 am]

BILLING CODE 3270-F9-P